DEPARTMENT OF THE INTERIOR

Fish and Wildlife Service

Notice of Receipt of Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the U.S. Fish and Wildlife Service, solicit review and comment from local, State, and Federal agencies, and the public on the following permit requests.

DATES: Comments on these permit applications must be received on or before January 16, 2003 to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-031850

Applicant: Gretchen Cummings, El Cajon, California.

The permittee requests an amendment to take (survey by pursuit) the Quino checkerspot butterfly (Euphydryas editha quino) in conjunction with demographic research throughout the range of the species in California for the purpose of enhancing its survival.

Permit No. TE-064644

Applicant: Jason Wolfe, El Cajon, California.

The applicant requests a permit to take (survey by pursuit) the Quino checkerspot butterfly (Euphydryas editha quino) in conjunction with demographic research throughout the range of the species in California for the purpose of enhancing its survival.

Permit No. TE-064645

Applicant: Gregg Anderson, San Marcos, California.

The applicant requests a permit to take (survey by pursuit) the Quino checkerspot butterfly (Euphydryas editha quino) in conjunction with demographic research throughout the range of the species in California for the purpose of enhancing its survival.

Permit No. TE-064359

Applicant: Sophie Chiang, Irvine, California.

The applicant requests a permit to take (survey by pursuit) the Quino checkerspot butterfly (Euphydryas editha quino) in conjunction with demographic research throughout the range of the species in California for the purpose of enhancing its survival.

Permit No. TE-020548

Applicant: U.S. Geological Survey, Biological Resources Division, Western Ecological Science Center, Vallejo, California.

The permittee requests an amendment to take (capture, mark, and release) the salt marsh harvest mouse (Reithrodontomys raviventris) in conjunction with genetic research throughout the southern range of the species in California, and extend the geographic area to throughout the range of the species in California to take (harass by survey) the California clapper rail (Railus longirostris obsoletus) in conjunction with distribution studies for the purpose of enhancing their survival.

Permit No. TE-017352

Applicant: Commonwealth of the Northern Mariana Islands, Saipan, Mariana Islands.

The permittee requests an amendment to take (locate and monitor nests) the Nightingale reed-warbler (Acrocephalus luscinia) in conjunction with research in the Northern Mariana Islands for the purpose of enhancing its survival.

Permit No. TE-795934

Applicant: Jones & Stokes, Sacramento, California.

The permittee requests an amendment to take (harass by survey) the Cactus ferruginous pygmy-owl (Glaucidium brasilianum cactorum) in conjunction with demographic studies in Arizona for the purpose of enhancing its survival.

Permit No. TE-016591

Applicant: Wendy Weber, Hayward, California.

The permittee requests an amendment to take (harass by survey, capture, and release) the Sonoma and Santa Barbara distinct population segments of the California tiger salamander (Ambystoma californiense) in conjunction with demographic research in Sonoma and Santa Barbara Counties, California for the purpose of enhancing their survival.

Permit No. TE-064944

Applicant: Charles Patterson, Lafayette, California.

The applicant requests a permit to take (harass by survey, capture, and release) the Sonoma distinct population segment of the California tiger salamander (Ambystoma californiense) in conjunction with demographic research in Sonoma County, California for the purpose of enhancing its survival.

Permit No. TE-797665

Applicant: Regional Environmental, Inc., San Diego, California.

The permittee requests an amendment to remove/reduce to possession the Ambrosia pumila (San Diego ambrosia) in conjunction with research in Riverside and San Diego Counties, California for the purpose of enhancing its survival.

Permit No. TE-702631

Applicant: Regional Director, Region 1, U.S. Fish and Wildlife Service, Portland, Oregon.

The permittee requests an amendment to remove/reduce to possession Lomatium cookii (Cook's lomatium) and Limnanthes floccosa grandiflora (large-flowered wooly meadowfoam) in conjunction with recovery efforts throughout the range of each species for the purpose of enhancing their propagation and survival.

We solicit public review and comment on each of these permit applications.

Dated: December 2, 2002.
Rowan Gould,
Regional Director, Region 1, U.S. Fish and Wildlife Service.

[FR Doc. 02-31641 Filed 12-16-02; 8:45 am]

BILLING CODE 4310-55-P